ENVIRONMENTAL PROTECTION AGENCY

40 CFR Parts 271 and 272

[EPA-R06-2012-0411; FRL-9694-7]

Louisiana: Final Authorization of State-Initiated Changes and Incorporation by Reference of Approved State Hazardous Waste Management Program

AGENCY: Environmental Protection Agency (EPA).

ACTION: Direct final rule.

SUMMARY: During a review of Louisiana's regulations, the EPA identified a variety of State-initiated changes to its hazardous waste program under the Resource Conservation and Recovery Act (RCRA). We have determined that these changes are minor and satisfy all requirements needed to qualify for Final authorization and are authorizing the State-initiated changes through this direct Final action. In addition, this document corrects technical errors made in the May 20, 2009, Federal Register authorization document for Louisiana.

The Solid Waste Disposal Act, as amended, commonly referred to as the Resource Conservation and Recovery Act (RCRA), allows the Environmental Protection Agency (EPA) to authorize States to operate their hazardous waste management programs in lieu of the Federal program. The EPA uses the regulations entitled “Approved State Hazardous Waste Management Programs” to provide notice of the authorization status of State programs and to incorporate by reference those provisions of the State statutes and regulations that will be subject to the EPA's inspection and enforcement. The rule codifies in the regulations the prior approval of Louisiana's hazardous waste management program and incorporates by reference authorized provisions of the State's statutes and regulations.

DATES: This regulation is effective September 11, 2012, unless the EPA receives adverse written comment on this regulation by the close of business August 13, 2012. If the EPA receives such comments, it will publish a timely withdrawal of this direct final rule in the Federal Register informing the public that this rule will not take effect. The Director of the Federal Register approves this incorporation by reference as of September 11, 2012 in accordance with 5 U.S.C. 552(a) and 1 CFR part 51.

ADDRESSES: Submit your comments by one of the following methods:

1. Federal eRulemaking Portal: http://www.regulations.gov. Follow the on-line instructions for submitting comments.

2. Email: patterson.alima@epa.gov or banks.julia@epa.gov.

3. Mail: Alima Patterson, Region 6, Regional Authorization Coordinator, or Julia Banks, Codification Coordinator, State/Tribal Oversight Section (6PD-O), Multimedia Planning and Permitting Division, EPA Region 6, 1445 Ross Avenue Dallas, Texas 75202-2733.

4. Hand Delivery or Courier: Deliver your comments to Alima Patterson, Region 6, Regional Authorization Coordinator, or Julia Banks, Codification Coordinator, State/Tribal Oversight Section (6PD-O), Multimedia Planning and Permitting Division, EPA Region 6, 1445 Ross Avenue Dallas, Texas 75202-2733.

Instructions: Do not submit information that you consider to be CBI or otherwise protected through regulations.gov, or email. The Federal regulations.gov Web site is an “anonymous access” system, which means the EPA will not know your identity or contact information unless you provide it in the body of your comment. If you send an email comment directly to the EPA without going through regulations.gov, your email address will be automatically captured and included as part of the comment that is placed in the public docket and made available on the Internet. If you submit an electronic comment, the EPA recommends that you include your name and other contact information in the body of your comment and with any disk or CD-ROM you submit. If the EPA cannot read your comment due to technical difficulties, and cannot contact you for clarification, the EPA may not be able to consider your comment. Electronic files should avoid the use of special characters, any form of encryption, and be free of any defects or viruses.

You can view and copy the documents that form the basis for this codification and associated publicly available materials from 8:30 a.m. to 4:00 p.m. Monday through Friday at the following location: EPA Region 6, 1445 Ross Avenue Dallas, Texas, 75202-2733, phone number (214) 665-8533 or (214) 665-8178. Interested persons wanting to examine these documents should make an appointment with the office at least two weeks in advance.

FOR FURTHER INFORMATION CONTACT: Alima Patterson, Region 6 Regional Authorization Coordinator, or Julia Banks, Codification Coordinator, State/Tribal Oversight Section (6PD-O), Multimedia Planning and Permitting Division, (214) 665-8533 or (214) 665-8178, EPA Region 6, 1445 Ross Avenue Dallas, Texas 75202-2733, and email address patterson.alima@epa.gov or banks.julia@epa.gov.

SUPPLEMENTARY INFORMATION:

I. Authorization of State-Initiated Changes

A. Why are revisions to State programs necessary?

States which have received Final authorization from the EPA under RCRA section 3006(b), 42 U.S.C. 6926(b), must maintain a hazardous waste program that is equivalent to, consistent with, and no less stringent than the Federal hazardous waste program. As the Federal program changes, the States must change their programs and ask the EPA to authorize the changes. Changes to State hazardous waste programs may be necessary when Federal or State statutory or regulatory authority is modified or when certain other changes occur. Most commonly, States must change their programs because of changes to the EPA's regulations in 40 Code of Federal Regulations (CFR) parts 124, 260 through 268, 270, 273 and 279. States can also initiate their own changes to their hazardous waste program and these changes must then be authorized.

B. What decisions have we made in this rule?

We conclude that Louisiana's revisions to its authorized program meet all of the statutory and regulatory requirements established by RCRA. We found that the State-initiated changes make Louisiana's rules more clear or conform more closely to the Federal equivalents and are so minor in nature that a formal application is unnecessary. Therefore, we grant Louisiana final authorization to operate its hazardous waste program with the changes described in the table at Section G below. Louisiana has responsibility for permitting Treatment, Storage, and Disposal Facilities (TSDFs) within its borders (except in Indian Country) and for carrying out all authorized aspects of the RCRA program, subject to the limitations of the Hazardous and Solid Waste Amendments of 1984 (HSWA). New Federal requirements and prohibitions imposed by Federal regulations that EPA promulgates under the authority of HSWA take effect in authorized States before they are authorized for the requirements. Thus, the EPA will implement those requirements and prohibitions in Louisiana, including issuing permits, until the State is granted authorization to do so.

C. What is the effect of this authorization decision?

The effect of this decision is that a facility in Louisiana subject to RCRA will now have to comply with the authorized State requirements instead of the equivalent Federal requirements in order to comply with RCRA. Louisiana has enforcement responsibilities under its State hazardous waste program for violations of such program, but the EPA retains its authority under RCRA sections 3007, 3008, 3013, and 7003, which include, among others, authority to:

• Do inspections, and require monitoring, tests, analyses, or reports;

• Enforce RCRA requirements and suspend or revoke permits; and

• Take enforcement actions regardless of whether the State has taken its own actions.

This action does not impose additional requirements on the regulated community because the statutes and regulations for which Louisiana is being authorized by this direct final action are already effective and are not changed by this action.

D. Why wasn't there a proposed rule before this rule?

The EPA did not publish a proposal before this rule because we view this as a routine program change and do not expect comments that oppose this approval. We are providing an opportunity for public comment now. In addition to this rule, in the Proposed Rules section of this Federal Register we are publishing a separate document that proposes to authorize the State program changes.

E. What happens if EPA receives comments that oppose this action?

If the EPA receives comments that oppose this authorization or the incorporation-by-reference of the State program, we will withdraw this rule by publishing a timely document in the Federal Register before the rule becomes effective. The EPA will base any further decision on the authorization of the State program changes, or the incorporation-by-reference, on the proposal mentioned in the previous paragraph. We will then address all public comments in a later final rule. If you want to comment on this authorization and incorporation-by-reference, you must do so at this time. If we receive comments that oppose only the authorization of a particular change to the State hazardous waste program or the incorporation-by-reference of the State program, we may withdraw only that part of this rule, but the authorization of the program changes or the incorporation-by-reference of the State program that the comments do not oppose will become effective on the date specified above. The Federal Register withdrawal document will specify which part of the authorization or incorporation-by-reference of the State program will become effective and which part is being withdrawn.

F. For what has Louisiana previously been authorized?

The State of Louisiana initially received final authorization on January 24, 1985, effective February 7, 1985 (see 50 FR 3348), to implement its Base Hazardous Waste Management Program. Louisiana received authorization for revisions to its program effective January 29, 1990 (54 FR 48889), October 25, 1991 (56 FR 41958) as corrected October 15, 1991 (56 FR 51762); January 23, 1995 (59 FR 55368) as corrected April 11, 1995 (60 FR 18360); March 8, 1995 (59 FR 66200); January 2, 1996 (60 FR 53704 and 60 FR 53707); June 11, 1996 (61 FR 13777), March 16, 1998 (62 FR 67572), December 22, 1998 (63 FR 56830), October 25, 1999 (64 FR 46302), November 1, 1999 (64 FR 48099), April 28, 2000 (65 FR 10411), March 5, 2001 (66 FR 23), February 9, 2004 (68 FR 68526), August 9, 2005 (70 FR 33852), January 12, 2007 (71 FR 66118), October 15, 2007 (72 FR 45905), July 20, 2009 (74 FR 23645), October 4, 2010 (75 FR 47223), and August 23, 2011 (76 FR 37021).

G. What changes are we authorizing with this action?

The State has made amendments to the provisions listed in the following table. These amendments clarify the State's regulations and make the State's regulations more internally consistent. The State's laws and regulations, as amended by these provisions, provide authority which remains equivalent to and no less stringent than the Federal laws and regulations. These State-initiated changes satisfy the requirements of 40 CFR 271.21(a). We are granting Louisiana final authorization to carry out the following provisions of the State's program in lieu of the Federal program. These provisions are analogous to the indicated RCRA statutory provisions or RCRA regulations found at 40 CFR as of July 1, 2008. The Louisiana provisions are from the Louisiana Administrative Code (LAC), Title 33, Part V effective December 31, 2009 (except as noted below).

State citation (LAC 33:V) | Federal analog (40 CFR)
State analogs to 40 CFR Part 260 provisions
(Hazardous waste management system: General)
105.I.1 | 260.21(a).
105.I.2.c | 260.21(b)(3).
105.O.1 intro | 260.30 intro.
109 Toxic Waste | 260.10 related; No Federal analog.
109 Corrosive Waste | 260.10 related, No Federal analog.
109 Ignitable Waste | 260.10 related; No Federal analog.
109 Incompatible Waste | 260.10 “incompatible waste”.
109 Reactive Waste | 260.10 related; No Federal analog.
109 SPOC | No Federal analog.
State analogs to 40 CFR Part 261 provisions
(Identification and listing of hazardous waste)
105.D.2.l intro | 261.4(b)(11) intro.
3105. Table 1 (Chapter 31, Table 1) | 261 App. VIII.
4137 (Repealed) | 261.6(a)(2) (Duplicate analog in state's regulations).
4999, Appendix E | 261 Appendix IX.
State analogs to 40 CFR Part 262 provisions
(Standards applicable to generators of hazardous waste)
1107.A.9 and .A.10 (Removed) | 262 Appendix (2004 CFR).
1107.A.8 | 262.20(f).
1107.B | 262 Appendix, I related.
1109.D | 262.33.
1901.D | 262.34(a)(1)(ii) related.
State analogs to 40 CFR Part 263 provisions
(Standards applicable to transporters of hazardous waste)
105.J.2 | 263.30(c)(2) related; No Federal analog.
1315.E & .F | 263.30(c)-(d).
1319.C (Repealed) | 263 related; No Federal analog.
State analogs to 40 CFR Part 264 provisions
(Standards for owners and operators of hazardous waste treatment, storage, and disposal facilities)
1509.B intro (Removed) | 264.15(b) related; No Federal analog.
1513.B.1 | 264.52(a).
1516.C.5 & .C.6 | 264.72(e) & (f).
1517.E (Removed) | 264.17 related: No federal analog.
1519.D | 264.13 related; No Federal analog.
1529.B.12 | 264.73(b)(10).
1529.B.13-.16 | 264.73(b)(11)-(14).
1529.B.17 & .18 | 264.73(b)(15) & (16).
1529.B.19 | 264.73(b)(9).
1529.E.1 | 264.77(a).
1709.E | 264.1033(e).
1711.B.1 | 264.1034(b)(1).
1711.C.1.a | 264.1034(c)(1).
1741.B.1 | 264.1063(b)(1).
1901.A | 264.190(a).
1905.H | 264.192 related; No Federal analog.
1907.G.3 and .G.4 | 264.193(g)(3) and (g)(4).
1915.D | 264.197 related; No Federal analog.
2101.D | 264.170 related; No Federal analog.
2303.K | 264.251 related; No Federal analog.
2311.A.1 & .2 | 264.256(a)&(b).
2503.K.1.k—K.1.m | 264.301 related; No Federal analog.
2703.I & J | 264.273 related; No Federal analog.
2903.I | 264.221(c) related; No Federal analog.
3207.B | 264.603 related; No Federal analog.
3105.B.1 | 264.340(b)(1).
3105.C | 264.340(c).
3111.A.4 | 264.343(c).
3207.C (except .C.2) | 264.603 related; No Federal analog.
3315.K | 264.97 related; No Federal analog.
3325 and Table 4 | 264, Appendix IX.
3715.F.8 | 264.147(f) related; No Federal analog.
3719.A | 264.151(a).
State analogs to 40 CFR Part 265 provisions
(Interim standards for owners and operators of hazardous waste treatment, storage, and disposal facilities)
4339 | 265.51.
4357.B.6 | 265.73(b)(4).
4357.B.10 | 265.73(b)(8).
4365.A | 265.77(a).
4367.D | 265.90(e).
4393.C | 265.119(c).
4395 | 265.120.
4437.E.2 | 265.193(e)(2).
4437.G.3.b | 265.193(g)(3)(ii).
4437.G.3.c | 265.193(g)(3)(iii).
4437.I.3 and .I.4 | 265.193(i)(3) and (i)(4).
4459 | 265.229.
4501.B.1 and B.2 | 265.310(a)(1) (July 1, 1993).
4512.D intro. and D.1 | 265.301(d) intro. and (d)(1).
State analogs to 40 CFR Part 266 provisions
(Standards for the management of specific hazardous wastes and specific types of hazardous waste management facilities)
3001.D.3.a intro | 266.100(d)(3)(i) intro.
3001.G.1.b | 266.100(g)(2).
3007.C.1.h | 266.103(c)(1)(viii).
3013.B.3 | 266.106(b)(3).
3023.E | 266.111(e).
3025.B.2.b | 266.112(b)(2)(ii).
3099, Appendix A | Part 266, Appendix I/Table I-A—Table I-E.
3099, Appendices B-I | Part 266, Appendices II-IX.
3099, Appendices J-L | Part 266, Appendices XI-XIII.
State analogs to 40 CFR Part 268 provisions
(Land disposal restrictions)
2230.B (except .B.2) | 268.45(b) (except (b)(2)).
2246.E intro | 268.7(d) intro.
2247.C intro | 268.7(b)(4) intro.
2299.Table 10 | 268.44(o)/Table 1.
State analogs to 40 CFR Part 270 provisions
(The hazardous waste permit program)
303.Q | 270.10(k).
305.D.2.f | 270.60(c)(3)(vi).
305.D.2.g | 270.60(c) related; No Federal analog.
321.C.3.a.iv | 270.42(c)(1)(iv).
321.C.10 intro | 270.42(j) intro.
519.A | 270.14(a).
529.A.2 | 270.19(a)(2).
529.A.4 | 270.19(a)(4).
State analogs to 40 CFR Part 270 provisions
(Recycled used oil)
4003.B.1.a | 279.10(b)(1)(i).
4003.B.2.c | 279.10(b)(2)(iii).

H. Who handles permits after the authorization takes effect?

This authorization does not affect the status of State permits and those permits issued by the EPA because no new substantive requirements are a part of these revisions.

I. How does this action affect Indian Country (18 U.S.C. 1151) in Louisiana?

Louisiana is not authorized to carry out its Hazardous Waste Program in Indian Country within the State. This authority remains with EPA. Therefore, this action has no effect in Indian Country.

II. Technical Corrections

The following technical corrections are made to the May 20, 2009 Louisiana authorization Federal Register document. The corrections being made address additions or corrections to the list of citations for checklist entries that was included in the published Federal Register document and are presented in order of the checklist number, followed by a brief description of the correction being made.

A. Corrections to the 5/20/09 Federal Register (74 FR 23645; Effective 7/20/09)

1. For Checklist 208, the following corrections should be made:

a. The citation “100.B.6-7” is corrected to read “110.B.5-7”.

b. The citation “100.C.3.aa” is corrected to read “110.C.3.aa”

c. The citation “4727.A.c.i-v” is corrected to read “4727.A.3.c.i-v”.

2. For Checklist 214, the following corrections should be made:

a. The citation “2245.C.1.b.” is corrected to read “2245.C.2”.

b. The citation “2515.E.2” is corrected to read “2515.D.”.

c. The citation “4903.B.b.i-iv” is corrected to read “4903.B.3.b.i-iv”.

d. The citation “4901.D.1.a.iii(d)” is corrected to read “4909.D.1.a.iii(d)”.

e. The citation “4901.Table 7” is corrected to read “4909.Table 7”.

III. Incorporation-by-Reference

A. What is codification?

Codification is the process of placing a State's statutes and regulations that comprise the State's authorized hazardous waste management program into the Code of Federal Regulations (CFR). Section 3006(b) of RCRA, as amended, allows the Environmental Protection Agency (EPA) to authorize State hazardous waste management programs to operate in lieu of the Federal hazardous waste management regulatory program. The EPA codifies its authorization of State programs in 40 CFR part 272 and incorporates by reference State statutes and regulations that the EPA will enforce under sections 3007 and 3008 of RCRA and any other applicable statutory provisions.

The incorporation by reference of State authorized programs in the CFR should substantially enhance the public's ability to discern the current status of the authorized State program and State requirements that can be Federally enforced. This effort provides clear notice to the public of the scope of the authorized program in each State.

B. What is the history of codification of Louisiana's hazardous waste management program?

The EPA incorporated by reference Louisiana's then authorized hazardous waste management program effective March 16, 1998 (62 FR 67578), and October 4, 2010 (75 FR 47223).

In this document, the EPA is revising Subpart T of 40 CFR part 272 to include the authorization revision actions effective July 20, 2009 (74 FR 23645) and August 23, 2011 (76 FR 37021.

C. What codification decisions have we made in this rule?

The purpose of this Federal Register document is to codify Louisiana's base hazardous waste management program and its revisions to that program. The EPA provided notices and opportunity for comments on the Agency's decisions to authorize the Louisiana program, and the EPA is not now reopening the decisions, nor requesting comments, on the Louisiana authorizations as published in the Federal Register notices specified in Section I.F of this document.

This document incorporates by reference Louisiana's hazardous waste statutes and regulations and clarifies which of these provisions are included in the authorized and Federally enforceable program. By codifying Louisiana's authorized program and by amending the Code of Federal Regulations, the public will be more easily able to discern the status of Federally approved requirements of the Louisiana hazardous waste management program.

The EPA is incorporating by reference the Louisiana authorized hazardous waste management program in subpart T of 40 CFR part 272. Section 272.951 incorporates by reference Louisiana's authorized hazardous waste statutes and regulations. Section 272.951 also references the statutory provisions (including procedural and enforcement provisions) which provide the legal basis for the State's implementation of the hazardous waste management program, the Memorandum of Agreement, the Attorney General's Statements and the Program Description, which are approved as part of the hazardous waste management program under Subtitle C of RCRA.

D. What is the effect of Louisiana's codification on enforcement?

The EPA retains its authority under statutory provisions, including but not limited to, RCRA sections 3007, 3008, 3013 and 7003, and other applicable statutory and regulatory provisions to undertake inspections and enforcement actions and to issue orders in authorized States. With respect to these actions, the EPA will rely on Federal sanctions, Federal inspection authorities, and Federal procedures rather than any authorized State analogues to these provisions. Therefore, the EPA is not incorporating by reference such particular, approved Louisiana procedural and enforcement authorities. Section 272.951(c)(2) of 40 CFR lists the statutory provisions which provide the legal basis for the State's implementation of the hazardous waste management program, as well as those procedural and enforcement authorities that are part of the State's approved program, but these are not incorporated by reference.

E. What state provisions are not part of the codification?

The public needs to be aware that some provisions of Louisiana's hazardous waste management program are not part of the Federally authorized State program. These non-authorized provisions include:

(1) Provisions that are not part of the RCRA subtitle C program because they are “broader in scope” than RCRA subtitle C (see 40 CFR 271.1(i));

(2) Federal rules adopted by Louisiana but for which the State is not authorized;

(3) Unauthorized amendments to authorized State provisions; and

(4) Other new unauthorized State requirements.

State provisions that are “broader in scope” than the Federal program are not part of the RCRA authorized program and the EPA will not enforce them. Therefore, they are not incorporated by reference in 40 CFR part 272. For reference and clarity, 40 CFR 272.951(c)(3) lists the Louisiana regulatory provisions which are “broader in scope” than the Federal program and which are not part of the authorized program being incorporated by reference. “Broader in scope” provisions cannot be enforced by the EPA; the State, however, may enforce such provisions under State law.

Additionally, Louisiana's hazardous waste regulations include amendments which have not been authorized by the EPA. Since the EPA cannot enforce a State's requirements which have not been reviewed and authorized in accordance with RCRA section 3006 and 40 CFR part 271, it is important to be precise in delineating the scope of a State's authorized hazardous waste program. Regulatory provisions that have not been authorized by the EPA include amendments to previously authorized State regulations as well as certain Federal rules and new State requirements.

Federal rules Louisiana has adopted but is not authorized for include those published in the Federal Register on August 8, 1986 (51 FR 28664); December 1, 1987 (52 FR 45788); and April 12, 1996 (61 FR 16290). In those instances where Louisiana has made unauthorized amendments to previously authorized sections of State code, the EPA is identifying in 40 CFR 272.951(c)(4) any regulations which, while adopted by the State and incorporated by reference, include language not authorized by the EPA. Those unauthorized portions of the State regulations are not Federally enforceable. Thus, notwithstanding the language in Louisiana hazardous waste regulations incorporated by reference at 40 CFR 272.951(c)(1), the EPA will only enforce those portions of the State regulations that are actually authorized by the EPA. For the convenience of the regulated community, the actual State regulatory text authorized by the EPA for the citations listed at 272.951(c)(4) (i.e., without the unauthorized amendments) is compiled as a separate document, Addendum to the EPA Approved Louisiana Regulatory Requirements Applicable to the Hazardous Waste Management Program, August 2011. This document is available from EPA Region 6, Sixth Floor, 1445 Ross Avenue, Dallas, Texas 75202-2733, Phone number: (214) 665-8533, and also Louisiana Department of Environmental Quality, 602 N. Fifth Street, Baton Rouge, Louisiana 70884-2178, phone number (225) 219-3559.

State regulations that are not incorporated by reference in this rule at 40 CFR 272.951(c)(1), or that are not listed in 40 CFR 272.951(c)(2) (“legal basis for the State's implementation of the hazardous waste management program”), 40 CFR 272.951(c)(3) (“broader in scope”) or 40 CFR 272.951(c)(4) (“unauthorized state amendments”), are considered new unauthorized State requirements. These requirements are not Federally enforceable.

With respect to any requirement pursuant to the Hazardous and Solid Waste Amendments of 1984 (HSWA) for which the State has not yet been authorized, the EPA will continue to enforce the Federal HSWA standards until the State is authorized for these provisions.

F. What will be the effect of federal HSWA requirements on the codification?

The EPA is not amending 40 CFR part 272 to include HSWA requirements and prohibitions that are implemented by the EPA. Section 3006(g) of RCRA provides that any HSWA requirement or prohibition (including implementing regulations) takes effect in authorized and not authorized States at the same time. A HSWA requirement or prohibition supersedes any less stringent or inconsistent State provision which may have been previously authorized by the EPA (50 FR 28702, July 15, 1985). The EPA has the authority to implement HSWA requirements in all States, including authorized States, until the States become authorized for such requirement or prohibition. Authorized States are required to revise their programs to adopt the HSWA requirements and prohibitions, and then to seek authorization for those revisions pursuant to 40 CFR part 271.

Instead of amending the 40 CFR part 272 every time a new HSWA provision takes effect under the authority of RCRA section 3006(g), the EPA will wait until the State receives authorization for its analog to the new HSWA provision before amending the State's 40 CFR part 272 incorporation by reference. Until then, persons wanting to know whether a HSWA requirement or prohibition is in effect should refer to 40 CFR 271.1(j), as amended, which lists each such provision.

Some existing State requirements may be similar to the HSWA requirement implemented by the EPA. However, until the EPA authorizes those State requirements, the EPA can only enforce the HSWA requirements and not the State analogs. The EPA will not codify those State requirements until the State receives authorization for those requirements.

Statutory and Executive Order Reviews

The Office of Management and Budget (OMB) has exempted this action from the requirements of Executive Order 12866 (58 FR 51735, October 4, 1993), and therefore this action is not subject to review by OMB. This rule incorporates by reference Louisiana's authorized hazardous waste management regulations and imposes no additional requirements beyond those imposed by State law. Accordingly, I certify that this action will not have a significant economic impact on a substantial number of small entities under the Regulatory Flexibility Act (5 U.S.C. 601 et seq.). Because this rule merely incorporates by reference certain existing State hazardous waste management program requirements which the EPA already approved under 40 CFR part 271, and with which regulated entities must already comply, it does not contain any unfunded mandate or significantly or uniquely affect small governments, as described in the Unfunded Mandates Reform Act of 1995 (Pub. L. 104-4).

This action will not have substantial direct effects on the States, on the relationship between the national government and the States, or on the distribution of power and responsibilities among the various levels of government, as specified in Executive Order 13132 (64 FR 43255, August 10, 1999), because it merely incorporates by reference existing authorized State hazardous waste management program requirements without altering the relationship or the distribution of power and responsibilities established by RCRA. This action also does not have Tribal implications within the meaning of Executive Order 13175 (65 FR 67249, November 6, 2000).

This action also is not subject to Executive Order 13045 (62 FR 19885, April 23, 1997), because it is not economically significant and it does not make decisions based on environmental health or safety risks. This rule is not subject to Executive Order 13211, “Actions Concerning Regulations That Significantly Affect Energy Supply, Distribution, or Use” (66 FR 28355, May 22, 2001), because it is not a significant regulatory action under Executive Order 12866.

The requirements being codified are the result of Louisiana's voluntary participation in the EPA's State program authorization process under RCRA Subtitle C. Thus, the requirements of section 12(d) of the National Technology Transfer and Advancement Act of 1995 (15 U.S.C. 272 note) do not apply. As required by section 3 of Executive Order 12988 (61 FR 4729, February 7, 1996), in issuing this rule, the EPA has taken the necessary steps to eliminate drafting errors and ambiguity, minimize potential litigation, and provide a clear legal standard for affected conduct. The EPA has complied with Executive Order 12630 (53 FR 8859, March 15, 1988) by examining the takings implications of the rule in accordance with the “Attorney General's Supplemental Guidelines for the Evaluation of Risk and Avoidance of Unanticipated Takings” issued under the executive order. This rule does not impose an information collection burden under the provisions of the Paperwork Reduction Act of 1995 (44 U.S.C. 3501 et seq.).

The Congressional Review Act, 5 U.S.C. 801 et seq., as amended by the Small Business Regulatory Enforcement Fairness Act of 1996, generally provides that before a rule may take effect, the agency promulgating the rule must submit a rule report, which includes a copy of the rule, to each House of the Congress and to the Comptroller General of the United States. The EPA will submit a report containing this document and other required information to the U.S. Senate, the U.S. House of Representatives, and the Comptroller General of the United States prior to publication in the Federal Register. A major rule cannot take effect until 60 days after it is published in the Federal Register. This action is not a “major rule” as defined by 5 U.S.C. 804(2). This action will be effective September 11, 2012.

List of Subjects in 40 CFR Parts 271 and 272

Environmental Protection, Administrative practice and procedure, Confidential business information, Hazardous waste, Hazardous waste transportation, Incorporation by reference, Indian lands, Intergovernmental relations, Penalties, Reporting and recordkeeping requirements, Water pollution control, Water supply.

Authority: This action is issued under the authority of Sections 2002(a), 3006 and 7004(b) of the Solid Waste Disposal Act as amended, 42 U.S.C. 6912(a), 6926, 6974(b).

Dated: June 15, 2012.
Samuel Coleman,
Acting Regional Administrator, Region 6.

For the reasons set forth in the preamble, under the authority at 42 U.S.C. 6912(a), 6926, and 6974(b), EPA is granting final authorization under part 271 to the State of Louisiana for revisions to its hazardous waste program under the Resource Conservation and Recovery Act and is amending 40 CFR part 272 as follows.

PART 272—APPROVED STATE HAZARDOUS WASTE MANAGEMENT PROGRAMS

1. The authority citation for part 272 continues to read as follows:

Authority: Sections 2002(a), 3006, and 7004(b) of the Solid Waste Disposal Act, as amended by the Resource Conservation and Recovery Act, as amended, 42 U.S.C. 6912(a), 6926, and 6974(b).

2. Revise § 272.951 to read as follows:

§ 272.951 Louisiana state-administered Program: Final authorization.

(a) Pursuant to section 3006(b) of RCRA, 42 U.S.C. 6926(b), the EPA granted Louisiana final authorization for the following elements as submitted to EPA in Louisiana's base program application for final authorization which was approved by EPA effective on February 7, 1985. Subsequent program revision applications were approved effective on January 29, 1990, October 25, 1991 as corrected October 15, 1991; January 23, 1995 as corrected April 11, 1995; March 8, 1995; January 2, 1996; June 11, 1996, March 16, 1998, December 22, 1998, October 25, 1999, November 1, 1999, April 28, 2000, March 5, 2001, February 9, 2004, August 9, 2005, January 12, 2007, October 15, 2007, July 20, 2009, October 4, 2010, August 23, 2011, and September 11, 2012.

(b) The State of Louisiana has primary responsibility for enforcing its hazardous waste management program. However, EPA retains the authority to exercise its inspection and enforcement authorities in accordance with sections 3007, 3008, 3013, 7003 of RCRA, 42 U.S.C. 6927, 6928, 6934, 6973, and any other applicable statutory and regulatory provisions, regardless of whether the State has taken its own actions, as well as in accordance with other statutory and regulatory provisions.

(c) State Statutes and Regulations. (1) The Louisiana statutes and regulations cited in paragraph (c)(1)(i) of this section are incorporated by reference as part of the hazardous waste management program under subtitle C of RCRA, 42 U.S.C. 6921 et seq. The Director of the Federal Register approves this incorporation by reference in accordance with 5 U.S.C. 552(a) and 1 CFR part 51. You may obtain copies of the Louisiana regulations that are incorporated by reference in this paragraph from the Office of the State Register, P.O. Box 94095, Baton Rouge, LA 70804-9095; Phone number: (225) 342-5015; Web site: http://doa.louisiana.gov/osr/lac/lac.htm. The statutes are available from West Publishing Company, 610 Opperman Drive, P.O. Box 64526, St. Paul, Minnesota 55164 0526; Phone: 1-800-328-4880; Web site: http://west.thomson.com. You may inspect a copy at EPA Region 6, 1445 Ross Avenue, Dallas, Texas 75202 (Phone number (214) 665-8533), or at the National Archives and Records Administration (NARA). For information on the availability of this material at NARA, call 202-741-6030, or go to: http://www.archives.gov/federal-register/cfr/ibr-locations.html.

(i) The binder entitled “EPA Approved Louisiana Statutory and Regulatory Requirements Applicable to the Hazardous Waste Management Program”, dated August 2011.

(ii) [Reserved]

(2) The following provisions provide the legal basis for the State's implementation of the hazardous waste management program, but they are not being incorporated by reference and do not replace Federal authorities:

(i) Louisiana Statutes Annotated, Revised Statutes, 2000 Main Volume (effective August 15, 1999), Volume 17B, Subtitle II of Title 30, Louisiana Environmental Quality Act, 2000: Chapter 1, Sections 2002, 2013, 2014.2, 2020, 2021, 2022.1(B), 2023, 2024; Chapter 2, Sections 2026 through 2029, 2033.A-D; Chapter 2-A, Section 2050.8; Chapter 9, Sections 2172, 2174, 2175, 2181, 2183.1.B, 2183.2, 2184.B, 2187, 2188.A and C, 2189.A and B, 2190.A-D, 2191.A-C, 2192, 2193, 2196, 2199, 2200, 2203.B and C, 2204.A(2), A(3) and B; Chapter 13, Sections 2294(6), 2295.C; Chapter 16, Section 2369.

(ii) Louisiana Statutes Annotated, Revised Statutes, 2010 (effective August 15, 2009) Cumulative Annual Pocket Part, Volume 17B, Subtitle II of Title 30, Louisiana Environmental Quality Act: Chapter 2, 2011.A(1), 2011.B and C, 2011.D (except 2011.D(4), (10)-(12), (16), (19), (20), (23) and (25)), 2011.E-G, 2012, 2014.A (except 2014.A.3), 2017, 2019.A-C, 2022.A (except the first sentence of 2022.A(1)), 2022.B and .C, 2025 (except 2025.D, .F(3), .H and .K); Chapter 3, Sections 2054.B(1), 2054.B(2)(a); Chapter 9, Sections 2180.A-C, 2183.C, and .F-.H, 2186.A-C; Chapter 18, Section 2417.A.

(iii) Louisiana Administrative Code, Title 33, Part I, Office of The Secretary Part I, Subpart 1: Departmental Administrative Procedures: Chapter 5, Sections 501 through 511, effective October 20, 2005; Chapter 7, Section 705, effective October 20, 2006; Chapter 19, Sections 1901 through 1909, effective October 20, 2005; Chapter 23, Sections 2303 through 2309, effective October 20, 2009.

(iv) Louisiana Administrative Code, Title 33, Part V, Hazardous Waste and Hazardous Materials, Louisiana Hazardous Waste Regulations, revised as of December 31, 2009: Chapter 1, Sections 101, 107.A.-C; Chapter 3, Sections 301, 311.A, 311.C, 315 introductory paragraph, 323.B.3; 323.B.4.d and e; Chapter 5, Section, 503; Chapter 7, Sections 703, 705, 707, 709 through 721; and Chapter 22, Sections 2201.A, 2201.E, 2201.F.

(3) The following statutory and regulatory provisions are broader in scope than the Federal program, are not part of the authorized program, and are not incorporated by reference:

(i) Louisiana Statutes Annotated, Revised Statutes, 2000 Main Volume (effective August 15, 1999), Volume 17B, Subtitle II of Title 30, Louisiana Environmental Quality Act, 2000: Chapter 9, Sections 2178 and 2197.

(ii) Louisiana Statutes Annotated, Revised Statutes, 2010 (effective August 15, 2009) Cumulative Annual Pocket Part, Volume 17B, Subtitle II of Title 30, Louisiana Environmental Quality Act: Chapter 2, Sections 2014.B and D.

(iii) Louisiana Administrative Code, Title 33, Part I, Office of The Secretary Part I, Subpart 1: Departmental Administrative Procedures: Chapter 19, Section 1911, effective October 20, 2009.

(iv) Louisiana Administrative Code, Title 33, Part V, Hazardous Waste And Hazardous Materials, Louisiana Hazardous Waste Regulations, revised as of December 31, 2010: Chapter 1, Section, 108.G.5; Chapter 3, Section 327; Chapter 11, Sections 1101.G and 1109.E.7.f ; Chapter 13, Section 1313; Chapter 51.

(4) Unauthorized State Amendments. (i) Louisiana has adopted but is not authorized to implement the HSWA rules that are listed in the Table in lieu of the EPA. The EPA will enforce the Federal HSWA standards for which Louisiana is not authorized until the State receives specific authorization from EPA.

Federal requirement | Federal Register reference | Publication date
Exports of Hazardous Waste (HSWA) | 51 FR 28664 | August 8, 1986.
HSWA Codification Rule 2: Post-Closure Permits (HSWA) | 52 FR 45788 | December 1, 1987.
Imports and Exports of Hazardous Waste: Implementation of OECD Council Decision (HSWA) | 61 FR 16290 | April 12, 1996.

(ii)(A) The following authorized provisions of the Louisiana regulations include amendments published in the Louisiana Register that are not approved by EPA. Such unauthorized amendments are not part of the State's authorized program and are, therefore, not Federally enforceable. Thus, notwithstanding the language in the Louisiana hazardous waste regulations incorporated by reference at paragraph (c)(1)(i) of this section, EPA will enforce the State provisions that are actually authorized by EPA. The effective dates of the State's authorized provisions are listed in the following Table.

State provision | Effective date of authorized provision
LAC 1111.B.1.c | March 20, 1984.
LAC 1113 | March 20, 1984.
LAC 4407.A.12 | March 20, 1984.

(B) The actual State regulatory text authorized by EPA (i.e., without the unauthorized amendments) is available as a separate document, Addendum to the EPA-Approved Louisiana Regulatory and Statutory Requirements Applicable to the Hazardous Waste Management Program, August, 2011. Copies of the document can be obtained from U.S. EPA Region 6, 1445 Ross Avenue, Dallas, TX 75202 also Louisiana Department of Environmental Quality, 602 N. Fifth Street, Baton Rouge, Louisiana 70884-2178.

(5) Memorandum of Agreement. The Memorandum of Agreement between EPA Region 6 and the State of Louisiana, signed by the EPA Regional Administrator on June 8, 2011 is referenced as part of the authorized hazardous waste management program under subtitle C of RCRA, 42 U.S.C. 6921 et seq.

(6) Statement of Legal Authority. “Attorney General's Statement for Final Authorization”, signed by the Attorney General of Louisiana on December, 13, 1996 and revisions, supplements and addenda to that Statement dated January 13, 1998, January 13, 1999, January 27, 1999, August 19, 1999, August 29, 2000, October 17, 2001, February 25, 2003, October 20, 2004, December 19, 2005, September 5, 2006, October 9, 2008, and January 14, 2010 are referenced as part of the authorized hazardous waste management program under subtitle C of RCRA, 42 U.S.C. 6921 et seq.

(7) Program Description. The Program Description and any other materials submitted as supplements thereto are referenced as part of the authorized hazardous waste management program under subtitle C of RCRA, 42 U.S.C. 6921 et seq.

3. Appendix A to part 272 is amended by revising the listing for “Louisiana” to read as follows:

Appendix A to Part 272—State Requirements

* * * * *

Louisiana

The statutory provisions include:

Louisiana Statutes Annotated, Revised Statutes, 2000 Main Volume (effective August 15, 1999), Volume 17B, Subtitle II of Title 30, Louisiana Environmental Quality Act, 2000: Chapter 2, Section 2022.1(A); Chapter 8, Section 2153(1); Chapter 9, Sections 2173 (except 2173(9)), 2183.1.A, 2184.A, 2188.B, 2189.C, 2202, 2203.A, 2204.A(1) and C; Chapter 13, Sections 2295.A and .B.

Louisiana Statutes Annotated, Revised Statutes, 2010 (effective August 15, 2009) Cumulative Annual Pocket Part, Volume 17B, Subtitle II of Title 30, Louisiana Environmental Quality Act: Chapter 1, Sections 2003, 2004 introductory paragraph, 2004(2)-(4), 2004(7)-(10), 2004(13), 2004(14) (except 2004(14)(b)-(d)), 2004(15), 2004(18); Chapter 2, Section 2022.A(1), first sentence; Chapter 9, Sections 2183.A, B, D, E, and I; Chapter 18, Section 2417.E(5).

Copies of the Louisiana statutes that are incorporated by reference are available from published by West Publishing Company, 610 Opperman Drive, P.O. Box 64526, St. Paul, Minnesota 55164-0526; Phone: 1-800-328-4880; Web site: http://west.thomson.com.

The regulatory provisions include:

Louisiana Administrative Code, Title 33, Part V, Hazardous Waste and Hazardous Materials, Louisiana Hazardous Waste Regulations, Part V, Subpart 1: Department Of Environmental Quality—Hazardous Waste, revised as of December 31, 2009 (unless otherwise specified):

Chapter 1—General Provisions And Definitions, Sections 103, 105, 108 (except G.5), 109 (except “Competent Authorities”, “Concerned Countries”, the two occurrences of “Consignee”, “Country of Transit”, “EPA Acknowledgement of Consent”, “Exporting Country”, “Importing Country”, “Notifier”, “Organization for Economic Cooperation and Development (OECD) Area”, “Primary Exporter”, “Receiving Country”, “Recognized Trader”, “Recovery Facility”, “Recovery Operations”, “Transfrontier Movement”, “Transit Country”), 110 (except 110.D.2, .E.2, .F.2, .G.1 and .G.2), 111;

Chapter 3—General Conditions for Transfer Storage and Disposal Facility Permits, Sections 303, 305 (except 305.F and 305.G), 307, 309, 311 (except 311.A and .C), 313, 315.A-.D, 317, 319, 321.A (except the phrase “in accordance with LAC 33.I.Chapter 15”), 321.B and .C, 322 (except 322.D.1.g), 323 (except 323.B.3, .B.4.d and .B.4.e), 325, 329;

Chapter 5—Permit Application Contents, Sections 501, 505 through 516, 517 (except the following phrases in 517.V: “or 2271, or a determination made under LAC 33:V.2273,” and, “or a determination”), 519 through 528, 529 (except 529.E), 530 through 536, 537 (except 537.B.2.f and .B.2.l), 540 through 699;

Chapter 7—Administrative Procedures for Treatment Storage and Disposal Facility Permits, Sections 701, 706, 708;

Chapter 11—Generators, Sections 1101 (except 1101.B and .G), 1103, 1105, 1107 (except 1107.D.5), 1109 (except 1109.E.3 and .E.7.f), 1111.A, 1111.B.1 introductory paragraph (except the phrase “to a treatment, storage, or disposal facility within the United States”), 1111.B.1.a.-.c, 1111.B.1.d (except the phrase “within the United States”), 1111.B.1.e (except the phrase “within the United States”), 1111.B.1.f-.h, 1111.B.2 (except the phrase “for a period of at least three years from the date of the report” and the third and fourth sentences), 1111.C-.E, 1113, 1121, 1199 Appendix A;

Chapter 13—Transporters, Sections 1301 (except 1301.F), 1303, 1305, 1307.A introductory paragraph (except the third sentence), 1307.B, 1307.C (except the last sentence), 1307.D, 1307.E (except the phrase “and, for exports, an EPA Acknowledgment of Consent” at .E.2), 1307.F (except the phrase “and, for exports, an EPA Acknowledgment of Consent” at 1307.F.2), 1307.G (except .1307.G.4), 1307.H, 1309, 1311, 1315 through 1323;

Chapter 15—Treatment, Storage and Disposal Facilities, Sections 1501 (except 1501.C.3), 1503 through 1515, 1516 (except 1516.B.4), 1517 through 1529, 1531 (except 1531.B), 1533, 1535;

Chapter 17—Air Emission Standards, Sections 1701 through 1799, Appendix Table 1;

Chapter 18—Containment Buildings, Sections 1801, 1802, 1803, (except 1803.B.2);

Chapter 19—Tanks, Sections 1901 through 1907, 1909 (except 1909.D), 1911 through 1921;

Chapter 20—Integration With Maximum Achievable Control Technology (MACT), Section 2001;

Chapter 21—Containers, Sections 2101 through 2119;

Chapter 22—Prohibitions on Land Disposal, Sections 2201.B-.D, 2201.G (except 2201.G.3), 2201.H, 2201.I, 2203.A (except “Cone of Influence,” “Confining Zone,” “Formation,” “Injection Interval,” “Injection Zone,” “Mechanical Integrity,” “Transmissive Fault or Fracture,” “Treatment,” “Underground Source of Drinking Water”), 2203.B, 2205, (except the phrase “or a determination under LAC 33:V.2273,” in 2205.D), 2207, 2208, 2209 (except the phrase “or a determination under LAC 33:V.2273,” in 2209.D.1), 2211, 2213, 2215, 2216 (except the phrase “or 2271” in 2216.E.2), 2218 (except the phrase “or 2271” in 2218.B.2), 2219, 2221.D-.F, 2223, 2227 (except 2227.B), 2230, 2231.G-.M, 2233, 2236, 2237, 2245 (except 2245.J and .K), 2246, 2247 (except 2247.G and .H), 2299 Appendix (except 2299 Tables 4 and 12);

Chapter 23—Waste Piles, Sections 2301 through 2313, 2315 (except the word “either” at the end of the introductory paragraph, the word “or” at the end of 2315.B.1, and .B.2), 2317;

Chapter 24—Hazardous Waste Munitions and Explosives Storage, Sections 2401 through 2405;

Chapter 25—Landfills, Sections 2501 through 2523;

Chapter 26—Corrective Action Management Units and Temporary Units, Sections 2601 through 2607;

Chapter 27—Land Treatment, Sections 2701 through 2723;

Chapter 28—Drip Pads, Sections 2801 through 2807, 2809 (except the word “either” at the end of 2809.B introductory paragraph, the word “or” at the end of 2809.B.1, and .B.2);

Chapter 29—Surface Impoundments, Sections 2901 through 2909, 2911 (except the word “either” at end of 2911.B introductory paragraph and 2911.B.1), 2913 through 2919;

Chapter 30—Hazardous Waste Burned in Boilers and Industrial Furnaces, Sections 3001 through 3007, 3009 (except 3009.F), 3011 through 3025, 3099 Appendices A through L;

Chapter 31—Incinerators, Sections 3101 through 3121;

Chapter 32—Miscellaneous Units, Sections 3201, 3203, 3205, 3207 (except 3207.C.2);

Chapter 33—Groundwater Protection, Sections 3301 through 3321, 3322 (except 3322.D), 3323, 3325;

Chapter 35—Closure and Post-Closure, Sections 3501 through 3505, 3507 (except 3507.B), 3509 through 3519, 3521 (except 3521.A.3), 3523 through 3527;

Chapter 37—Financial Requirements 3701, 3703, 3705 (except the last sentence in 3705.D), 3707 through 3719;

Chapter 38—Universal Wastes, Sections 3801 through 3811, 3813, (except “Mercury-containing Lamp”), 3815 through 3833, 3835 (except the phrase “other than to those OECD countries * * * requirements of LAC 33:V.Chapter 11.Subchapter B),”), 3837 through 3855, 3857 (except the phrase “other than to those OECD countries * * * requirements of LAC 33:V.Chapter 11.Subchapter B),”), 3859 through 3869, 3871.A introductory paragraph (except the phrase “other than to those OECD countries * * * requirements of LAC 33:V.Chapter 11.Subchapter B”), 3871.A.1-.2, 3873 through 3877, 3879 (except 3879.B), 3881, 3883;

Chapter 40—Used Oil, Sections 4001 through 4093;

Chapter 41—Recyclable Materials, Sections 4101, 4105 (except 4105.A.1.a.i and ii, 4105.A.4), 4139, 4141, 4143 (except the word “and” at end of 4143.B.4, 4143.B.5), 4145;

Chapter 42—Conditional Exemption for Low-Level Mixed Waste Storage and Disposal, Sections 4201 through 4243;

Chapter 43—Interim Status, Sections 4301.A, 4301.B (June 1995), 4301.B, 4301.C (June 1995), 4301.C -.I, 4302 through 4371, 4373 (except the last two sentences “The administrative authority * * * as demonstrated in accordance with LAC 33:I.Chapter 13.” in 4373.K.1), 4375, 4377, 4379 (except 4379.B), 4381 through 4387, 4389 (except 4389.C), 4391 through 4397, 4399 (except 4399.A.6.i), 4401 through 4413, 4417 through 4456, 4457.A (except 4457.A.2), 4457.B (except the phrase: “If the owner or operator * * * he must” in the introductory paragraph), 4457.C, 4459 through 4474, 4475 (except the word “either” at the end of 4475.B introductory paragraph, the word “or” at the end of 4475.B.1, and 4475.B.2); 4476 through 4499, 4501 (except 4501.D.3), 4502 through 4703, 4705 (except the word “either” at the end of 4705.B introductory paragraph, the word “or” at the end of 4705.B.1, and 4705.B.2); 4707 through 4739;

Chapter 49—Lists of Hazardous Wastes, Sections 4901, 4903, 4907, 4909, 4911 through 4915, 4999 Appendices C through E;

Chapter 53—Military Munitions 5301 through 5311;

Louisiana Administrative Code, Title 33, Part VII, Solid Waste, as amended through June 20, 2000; Sections 301.B.1, 315.N, 521.H.

Copies of the Louisiana Administrative Code as published by the Office of the State Register, P.O. Box 94095, Baton Rouge, LA 70804-9095; Phone: (225) 342-5015; Web site: http://doa.louisiana.gov/osr/lac/lac.htm.

* * * * *

[FR Doc. 2012-16825 Filed 7-12-12; 8:45 am]

BILLING CODE 6560-50-P